DEPARTMENT OF DEFENSE

Office of the Secretary

[Docket ID: DoD-2015-OS-0032]

Notice of Availability for a Finding of No Significant Impact for the Environmental Assessment Addressing the Upgrade and Storage of Beryllium at the DLA Strategic Materials Depot in Hammond, IN

AGENCY: Defense Logistics Agency (DLA), DoD.

ACTION: Notice of Availability (NOA) for a Finding of No Significant Impact (FONSI) for the Environmental Assessment (EA) Addressing the Upgrade and Storage of Beryllium at the DLA Strategic Materials Depot in Hammond, IN.

SUMMARY: On April 10, 2015, DLA published a NOA in the Federal Register (80 FR 19290) announcing the publication of the EA Addressing the Upgrade and Storage of Beryllium at the DLA Strategic Materials Depot in Hammond, IN. The EA was available for a 30-day public comment period that ended May 11, 2015. The EA was prepared as required under the National Environmental Policy Act (NEPA) of 1969. In addition, the EA complied with DLA Regulation 1000.22. No comments were received during the public comment period. This FONSI documents the decision of DLA to proceed with the Upgrade and Storage of Beryllium at the DLA Strategic Materials Depot in Hammond, IN. DLA has determined that the Proposed Action is not a major Federal action significantly affecting the quality of the human environment within the context of NEPA and that no significant impacts on the human environment are associated with this decision.

FOR FURTHER INFORMATION CONTACT: Ira Silverberg at 703-767-0705 during normal business hours Monday through Friday, from 8:00 a.m. to 4:30 p.m. (EST) or by email: ira.silverberg@dla.mil.

SUPPLEMENTARY INFORMATION: DLA completed an EA to address the potential environmental consequences associated with the proposed upgrade and storage of beryllium at the DLA Strategic Materials Depot in Hammond, IN. This FONSI incorporates the EA by reference and summarizes the results of the analyses in the EA.

Purpose and Need for Action: The purpose of the Proposed Action is to upgrade and store a portion of the existing U.S. National Defense Stockpile (NDS) of beryllium. DLA Strategic Materials has determined that a portion of the existing beryllium billets are not in forms readily useable by the U.S. Department of Defense (DoD) or its subcontractors in times of national emergency. The proposed upgrade would convert the existing beryllium billets into one or more final products that would meet current specifications for many modern DoD applications. The upgraded and converted beryllium is also expected to be applicable to these same manufacturing processes for the foreseeable future.

Proposed Action and Alternatives: Under the proposed action, the DLA Strategic Materials would have up to 20 tons (18,140 kg) of the existing NDS beryllium billets upgraded and converted at one or more off-site commercial facilities and then will return the converted beryllium to the Hammond Depot for continued safe and environmentally sound long-term storage.

Each crate containing a single beryllium billet would be removed from its storage location at the Hammond Depot by forklift and loaded onto a truck located adjacent to the storage structure. The truck would then transport the crate/billet to an off-site commercial facility where the upgrade and conversion process would occur. All such upgrade and conversion activities would be conducted at the off-site facilities in compliance with all applicable state, local and federal laws, regulations, requirements and permits. The upgraded billet would then be returned and received for storage at the Hammond Depot. DLA Strategic Materials expects to complete the beryllium upgrade and conversion portion of the Proposed Action within a five-year period and before the end of calendar year 2020.

Under the Proposed Action, long-term storage of the upgraded and converted forms of beryllium at the Hammond Depot would then continue after that date. A minimally intrusive inspection methodology would be employed by DLA Strategic Materials for the periodic, on-going quality surveillance of the upgraded and converted beryllium and to verify the continued integrity of the storage containers, the internal inert atmosphere status, and the product quality for the duration of the long-term storage period.

The proposed beryllium upgrade and conversion would result in the creation of forms of beryllium that are highly compatible with the inputs required for current and future manufacturing processes. The Proposed Action is also required to ensure that the installation is able to meet its current and future mission requirements.

Description of the No Action Alternative: Under the No Action Alternative, DLA would not upgrade the beryllium. The NDS beryllium stockpile would continue to be stored at the Hammond Depot in its current billet form. In the event the beryllium was needed to satisfy future critical U.S. security, military or aerospace uses, it would not be available in the forms required as input to current manufacturing processes, and the billets would likely require conversion at that time. DLA Strategic Materials has obtained estimates that it takes about 10 weeks to turn beryllium billets into powder. Hence, the usefulness of the beryllium in billet form would be questionable for any such future U.S. critical needs. The No Action Alternative would not meet the purpose of and need for the Proposed Action.

Potential Environmental Impacts: No significant effects on environmental resources would be expected from the Proposed Action. Potential insignificant, adverse effects on transportation, land use, water resources, and ecological resources, air quality, and waste management could be expected. No effects on environmental justice, cultural resources, noise, recreation, socioeconomics, or aesthetics would be expected. Details of the environmental consequences are discussed in the EA, which is hereby incorporated by reference.

Determination: Based on the analysis of the Proposed Action's potential impacts to the human environment from routine operations, it was concluded that the Proposed Action would produce no significant adverse impacts. Human environment was interpreted comprehensively to include the natural and physical environment and the relationship of people with that environment. No significant cumulative effects were identified. Implementation of the Proposed Action will not violate any Federal, state, or local laws. Based on the results of the analyses performed during preparation of the EA, Ms. Mary D. Miller, Director, DLA Installation Support, concludes that the Upgrade and Storage of Beryllium at the DLA Strategic Materials Depot in Hammond, IN does not constitute a major Federal action significantly affecting the quality of the human environment within the context of NEPA. Therefore, an environmental impact statement for the Proposed Action is not required.

Dated: August 19, 2015.
Aaron Siegel,
Alternate OSD Federal Register Liaison Officer, Department of Defense.

[FR Doc. 2015-20810 Filed 8-21-15; 8:45 am]

BILLING CODE 5001-06-P